FEDERAL RETIREMENT THRIFT INVESTMENT BOARD

Sunshine Act Meetings

Employee Thrift Advisory Council Meeting

AGENDA: Employee Thrift Advisory Council, November 8, 2017, 10:00 a.m. (In-Person), 77 K Street NE., Washington, DC 20002.

1. Approval of the minutes of the May 31, 2017 Joint Board/ETAC meeting

2. Thrift Savings Plan Statistics

3. FY18 Budget

5. Blended Retirement Update

6. Participant Survey

7. Withdrawal Project Overview

9. New Business

CONTACT PERSON FOR MORE INFORMATION: Kimberly Weaver, Director, Office of External Affairs, (202) 942-1640.

Dated: October 25, 2017.
Megan Grumbine,
General Counsel, Federal Retirement Thrift Investment Board.

[FR Doc. 2017-23619 Filed 10-26-17; 11:15 am]

BILLING CODE 6760-01-P